DEPARTMENT OF VETERANS AFFAIRS

Voluntary Service National Advisory Committee; Notice of Meeting

The Department of Veterans Affairs (VA) gives notice under Public Law 92-463 (Federal Advisory Committee Act) that the annual meeting of the VA Voluntary Service (VAVS) National Advisory Committee (NAC) will be held at the Radisson Hotel, City Center, 31 West Ohio Street, Indianapolis, Indiana, on Monday, October 14, 2002, from 8 a.m. until 4 p.m., and on Tuesday, October 15, 2002, from 8 a.m. until 12 noon.

The NAC consists of sixty national organizations and advises the Under Secretary for Health and other senior VA officials on how to coordinate and promote volunteer activities within VA facilities. The Executive Committee consists of nineteen representatives from the NAC member organizations and acts as the NAC governing body in the interim period between NAC annual meetings.

On October 14, the business topics include: An update on Veterans Health Administration and the VAVS program's progress since the 2001 NAC annual meeting; Parke Board update; review of the 2001 annual meeting evaluations; and plans for the 57th NAC annual meeting. On October 15, the business topics include: 2005 NAC annual meeting planning; membership report; review recommendations approved at the 2001 NAC annual meeting; subcommittee reports; Standard Operating Procedure Revisions; new business and Executive Committee appointments.

The meeting is open to the public. Individuals interested in attending are encouraged to contact: Ms. Laura Balun, Administrative Officer, Voluntary Service Office (10C2), Department of Veterans Affairs, 810 Vermont Avenue, NW., Washington, DC 20420, at (202) 273-8392.

Dated: September 5, 2002.
By Direction of the Secretary.
Nora E. Egan,
Committee Management Officer.

[FR Doc. 02-23197 Filed 9-11-02; 8:45 am]

BILLING CODE 8320-01-M